DEPARTMENT OF COMMERCE

International Trade Administration

[A-821-802]

Extension of Time Limit for Sunset Review of the Agreement Suspending the Antidumping Investigation on Uranium from the Russian Federation

AGENCY: Import Administration, International Trade Administration, U.S. Department of Commerce.

EFFECTIVE DATE: November 10, 2005.

FOR FURTHER INFORMATION CONTACT: Sally Gannon, Import Administration, International Trade Administration, U.S. Department of Commerce, 14th Street & Constitution Avenue, NW, Washington, DC 20230; (202) 482-0162.

SUPPLEMENTARY INFORMATION:

Extension of Time Limit for Sunset Review:

In accordance with section 751(c)(5)(B) of the Tariff Act of 1930, as amended, (“the Act”), the U.S. Department of Commerce (“the Department”) may extend the period of time for making its determination by not more than 90 days if it determines that the review is extraordinarily complicated. As set forth in section 751(c)(5)(C)(v) of the Act, the Department may treat a sunset review as extraordinarily complicated if it is a review of a transition order. A transition order is defined as any antidumping or countervailing duty order or suspension agreement that was in effect on January 1, 1995, the date on which the WTO Agreement entered into force with respect to the United States. See section 751(c)(6)(C) of the Act. The agreement suspending the antidumping investigation on uranium from the Russian Federation was in effect prior to January 1, 1995 and, as such, is a transition order. Therefore, the Department has determined, pursuant to section 751(c)(5)(C)(v) of the Act, that the sunset review of the agreement suspending the antidumping investigation on uranium from the Russian Federation is extraordinarily complicated and requires additional time for the Department to complete its analysis. The Department will extend the deadlines in this proceeding and, as a result, intends to issue either the preliminary results of the full sunset review on January 17, 2006 and the final results of the full sunset review on May 30, 2006, or the final results of the expedited review on January 27, 2006.

This notice is issued in accordance with sections 751(c)(5)(B) and (C)(v) of the Act.

Dated: November 3, 2005.
Ronald K. Lorentzen,
Director, Office of Policy.

[FR Doc. 05-22490 Filed 11-9-05; 8:45 am]

BILLING CODE 3510-DS-S